NATIONAL FOUNDATION ON THE ARTS AND THE HUMANITIES

Institute of Museum and Library Services

Submission for OMB Review, Comment Request, Proposed Collection: “Museums Empowered: Professional Development Opportunities for Museum Staff”

AGENCY: Institute of Museum and Library Services, National Foundation on the Arts and the Humanities.

ACTION: Submission for OMB review, comment request.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This program helps to ensure that requested data can be provided in the desired format, reporting burden (time and financial resources) is minimized, collection instruments are clearly understood, and the impact of collection requirements on respondents can be properly assessed. A copy of the proposed information collection request can be obtained by contacting the individual listed below in the ADDRESSES section of this notice.

DATES: Written comments must be submitted to the office listed in the FOR FURTHER INFORMATION CONTACT section below on or before June 13, 2020.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Mark Isaksen, Senior Museum Program Officer, Institute of Museum and Library Services, 955 L'Enfant Plaza North SW, Suite 4000, Washington, DC 20024. Mr. Isaksen can be reached by telephone: 202-653-4662; email: misaksen@imls.gov or by or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: To administer a special initiative in the Museums for America (MFA) grant program titled Museums Empowered: Professional Development Opportunities for Museum Staff.

Museums Empowered: Professional Development Opportunities for Museum Staff is a special initiative of the Museums for America grant program with the goal of strengthening the ability of an individual museum to serve its public through professional development activities that cross-cut various departments to generate systemic change within the museum.

Museums need to be dynamic to respond to fast-evolving technological advances and changing demographics. Museums also need to generate and share results that document the effectiveness of their work in addressing community problems. In addition, they need to develop sustainable organizational structures and flexible strategies for long-term stability. Professional development is critical for museums to deliver on these areas of need.

IMLS encourages applicants to invest in the professional development of museum staff, leadership, and volunteers to enhance their skills and ensure the highest standards in all aspects of museum operations. Potential projects should involve multiple levels of staff and generate organizational change.

Your project should align with one of the following four categories: (1) Digital Technology, (2) Diversity and Inclusion, (3) Evaluation, and (4) Organizational Management.

This action is to seek renewal clearance of the “Museums Empowered: Professional Development Opportunities for Museum Staff.” The 60-day was published in the Federal Register on November 14, 2019 (FR vol. 84, No. 220, pgs. 61942-61943). There were no public comments.

Agency: Institute of Museum and Library Services.

Title: “Museums Empowered: Professional Development Opportunities for Museum Staff.”

OMB Number: 3137-0107.

Agency Number: 3137.

Frequency: Annually.

Affected Public: Museums that meet the IMLS Museums for America institutional eligibility criteria.

Number of Respondents: 100.

Estimated Time per Respondent: 40 hours.

Total Burden Hours: 4,000.

Total Annualized Cost to Respondents: $112,480.00.

Total Annualized Capital/Startup Costs: 0.

Total Annualized Cost to Federal Government: $14,471.88.

Dated: May 12, 2020.
Kim Miller,
Senior Grants Management Specialist, Institute of Museum and Library Services.

[FR Doc. 2020-10470 Filed 5-14-20; 8:45 am]

BILLING CODE 7036-01-P